DEPARTMENT OF COMMERCE

National Oceanic and Atmospheric Administration

RIN 0648-XD382

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Oversight Committee to consider actions affecting New England fisheries in the exclusive economic zone (EEZ). Recommendations from these groups will be brought to the full Council for formal consideration and action, if appropriate.

DATES: This meeting will be held on Monday, August 4, 2014 at 9 a.m.

ADDRESSES: The meetings will be held at the DoubleTree by Hilton, 50 Ferncroft Road, Danvers, MA 01923; telephone: (978) 777-2500; fax: (978) 750-7959.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the committee agenda are: Review of Amendment 18 action plan and discussion of results of the Compass Lexecon Peer Review on excessive shares in the groundfish fishery. They will review the Groundfish Plan Development Team (PDT) analysis to develop inshore/offshore areas and management measures to limit commercial and recreational concentrations of fishing effort on Gulf of Maine cod and other depleted stocks. Also, on the agenda will be the review of draft alternatives under development in Amendment 18 regarding inshore/offshore areas, accumulation limits, and data confidentiality. They will also review Framework Adjustment 53 action plan and receive an update from the PDT on progress. The committee will discuss other business as necessary.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Thomas A. Nies, Executive Director, at (978) 465-0492, at least 5 days prior to the meeting date.

Authority: 16 U.S.C. 1801 et seq.

Dated: July 11, 2014.
Tracey L. Thompson,
Acting Deputy Director, Office of Sustainable Fisheries, National Marine Fisheries Service.

[FR Doc. 2014-16680 Filed 7-15-14; 8:45 am]

BILLING CODE 3510-22-P